DEPARTMENT OF THE INTERIOR

Fish and Wildlife Service

[FWS-R8-ES-2023-0202; FXES11130800000-178-FF08EVEN00]

Application for Renewal of Incidental Take Permit; Interim Programmatic Habitat Conservation Plan for the Mount Hermon June Beetle and Ben Lomond Spineflower, Santa Cruz County, CA

AGENCY: Fish and Wildlife Service, Interior.

ACTION: Notice of receipt of permit renewal application; request for comments.

SUMMARY: We, the U.S. Fish and Wildlife Service (Service), announce receipt of an application from the County of Santa Cruz (applicant) for renewal of an existing incidental take permit under the Endangered Species Act. The applicant has requested a renewal that will extend permit duration by 20 years from the date the permit is reissued. The permit would continue to authorize take of the federally endangered Mount Hermon June beetle that is incidental to otherwise lawful activities associated with the approved Interim Programmatic Habitat Conservation Plan for the Endangered Mount Hermon June Beetle and Ben Lomond Spineflower. We invite comment on the application and associated documents from agencies, Tribes, and the public.

DATES: Written comments should be received on or before November 16, 2023.

ADDRESSES:

Obtaining Documents: The documents this notice announces, as well as any comments and other materials that we receive, will be available for public inspection online in Docket No. FWS-R8-ES-2023-0202 at https://www.regulations.gov.

Submitting Comments: If you wish to submit comments on any of the documents, you may do so in writing by any of the following methods:

• Online: https://www.regulations.gov. Follow the instructions for submitting comments on Docket No. FWS-R8-ES-2023-0202.

• U.S. mail: Public Comments Processing; Attn: Docket No. FWS-R8-ES-2023-0202; U.S. Fish and Wildlife Service; MS: PRB/3W; 5275 Leesburg Pike; Falls Church, VA 22041-3803.

FOR FURTHER INFORMATION CONTACT: Chad Mitcham, Fish and Wildlife Biologist, by email at chad_mitcham@fws.gov, or by telephone at 805-644-1766. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: We, the U.S. Fish and Wildlife Service (Service), announce receipt of an application from the County of Santa Cruz (applicant) for renewal by 20 years of an existing incidental take permit under the Endangered Species Act of 1973, as amended (Act; 16 U.S.C. et seq.). If approved for renewal, the permit would continue to authorize take of the federally endangered Mount Hermon June beetle (Polyphylla barbata) that is incidental to otherwise lawful activities associated with the approved Interim Programmatic Habitat Conservation Plan for the Endangered Mount Hermon June Beetle and Ben Lomond Spineflower (HCP). The applicant has agreed to update mitigation measure 5.2.2.2 in the HCP to ensure that impacts to the species' habitat are commensurately offset through the protection of habitat at a 3 to 1 ratio (i.e., habitat protected to habitat disturbed). The applicant also agreed to follow all other existing HCP conditions. If the permit is renewed, no additional take above the original authorized limit of 139 acres of habitat, using habitat as a surrogate for take, will be authorized. We invite comment on the application, HCP, and associated documents from the public and local, State, Tribe, and Federal agencies.

Background

The Mount Hermon June beetle was listed by the Service as endangered on January 24, 1997 (62 FR 3616). The Ben Lomond spineflower (Chorizanthe pungens var. hartwegiana) was listed by the Service as endangered on February 4, 1994 (59 FR 5499). Section 9 of the Act and its implementing regulations prohibit the “take” of fish or wildlife species listed as endangered or threatened. “Take” is defined under the Act to include the following activities: “[T]o harass, harm, pursue, hunt, shoot, wound, kill, trap, capture, or collect, or to attempt to engage in any such conduct” (16 U.S.C. 1532); however, under section 10(a)(1)(B) of the Act, we may issue permits to authorize incidental take of listed wildlife species. “Incidental take” is defined by the Act as take that is incidental to, and not the purpose of, carrying out of an otherwise lawful activity. Regulations governing incidental take permits for threatened and endangered species are, respectively, in the Code of Federal Regulations (CFR) at 50 CFR 17.32 and 17.22. Under the Act, protections for federally listed plants differ from the protections afforded to federally listed animals. Take of listed plant species is not prohibited under the Act and cannot be authorized under a section 10 permit. However, listed plant species may be included on an incidental take permit in recognition of the conservation benefit provided to them under an HCP. Issuance of an incidental take permit also must not jeopardize the existence of federally listed fish, wildlife, or plant species. All species included in the incidental take permit would receive assurances under our “No Surprises” regulations (50 CFR 17.22(b)(5) and 17.32(b)(5)).

The applicant has applied for renewal of their permit for incidental take of the endangered Mount Hermon June beetle. The potential taking would occur by activities associated with the construction of certain eligible small development projects in densely developed residential neighborhoods (as defined in the HCP) that support suitable habitat for the covered species. The 10 project units within the HCP boundary were identified within the communities of Ben Lomond, Felton, Mount Hermon, and Scotts Valley in Santa Cruz County, California. Incidental take permits were first issued for the HCP on October 27, 2011 (76 FR 17664; March 30, 2011), and renewed on June 30, 2018 (83 FR 17837; April 24, 2018).

Our Preliminary Determination Under the National Environmental Policy Act

Based on a preliminary review, the Service anticipates the original National Environmental Policy Act (NEPA) review for the HCP permit in 2011 remains valid and accurate. That analysis concluded that issuance of the permit is not a major Federal action that will significantly affect the quality of the human environment within the meaning of section 102(2)(C) of NEPA. Therefore, the Service anticipates the permit renewal is consistent with our original analysis pursuant to the Council on Environmental Quality's National Environmental Policy Act (NEPA) regulations, the Department of the Interior's (DOI) NEPA regulations (43 CFR 46), and the DOI's Departmental Manual (516 DM 8.5(C)(2)).

Public Comments

If you wish to comment on the permit application, HCP, and associated documents, you may submit comments by any one of the methods in ADDRESSES.

Public Availability of Comments

Before including your address, phone number, email address, or other personal identifying information in your comment, you should be aware that your entire comment, including your personal identifying information, may be made publicly available at any time. While you can ask us in your comment to withhold your personal identifying information from public view, we cannot guarantee that we will be able to do so.

Authority

The Service provides this notice under section 10(c) of the Endangered Species Act (16 U.S.C. 1531 et seq.) and its implementing regulations (50 CFR 17.32) and the National Environmental Policy Act (42 U.S.C. 4321 et seq.) and its implementing regulations (40 CFR 1500-1508 and 43 CFR 46).

Stephen P. Henry,
Field Supervisor, Ventura Fish and Wildlife Office, Ventura, California.

[FR Doc. 2023-22807 Filed 10-16-23; 8:45 am]

BILLING CODE 4333-15-P